DEPARTMENT OF TRANSPORTATION

Federal Railroad Administration

[Docket Number FRA-2023-0096]

Petition for Waiver of Compliance

Under part 211 of title 49 Code of Federal Regulations (CFR), this document provides the public notice that on November 13, 2023, Union Pacific Railroad Company (UPRR) petitioned the Federal Railroad Administration (FRA) for a waiver of compliance from certain provisions of the Federal railroad safety regulations contained at 49 CFR part 231 (Railroad Safety Appliance Standards). FRA assigned the petition Docket Number FRA-2023-0096.

Specifically, UPRR requested a waiver from 49 CFR 231.27(h), Uncoupling levers, to disable the uncoupling levers on prototype rail tie cars used solely in “Rail Train” service, which is UPRR's non-revenue service to maintain its rail network. UPRR seeks to disable the uncoupling levers when moving both loaded and empty cars. The cars would be used solely for delivering rail ties to maintenance-of-way (MoW) employees through the UPRR network, and they are equipped with additional air and electrical train lines that risk damage if the cars become inadvertently uncoupled. In support of its request, UPRR states that the “prototype cars reduce risk for MoW personnel by eliminating the current risks associated with machine unloading of ties from gondola cars.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at https://www.regulations.gov. Follow the online instructions for submitting comments.

Communications received by July 8, 2024 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2024-09867 Filed 5-6-24; 8:45 am]

BILLING CODE 4910-06-P